DEPARTMENT OF ENERGY

Federal Energy Regulatory Commission

[Docket No. RP99-480-012]

Texas Eastern Transmission, LP; Notice of Compliance Filing

November 30, 2004.

Take notice that on November 18, 2004, Texas Eastern Transmission, LP (Texas Eastern) tendered for filing a compliance filing pursuant to a Commission's order issued on November 3, 2004, in Docket Nos. RP99-480-010 and RP99-480-011, Texas Eastern Transmission, LP, 109 FERC ¶ 61,145 (2004).

Texas Eastern states that, in accordance with Paragraph 6 of the November 3, 2004 Order, Texas Eastern is revising section 1.35A of the General Terms and Conditions of its FERC Gas Tariff to permit Texas Eastern, on a not unduly discriminatory basis, to mutually agree with a shipper to a contractual ROFR in circumstances in which a regulatory ROFR does not automatically apply. Texas Eastern proposes to modify its tariff to provide for a contractual right of first refusal.

Texas Eastern states that copies of the filing were served upon all affected customers of Texas Eastern and interested state commissions, as well as upon all parties on the Commission's official service lists in these proceedings.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of § 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3481 Filed 12-6-04; 8:45 am]

BILLING CODE 6717-01-P